DEPARTMENT OF THE INTERIOR

Bureau of Land Management

[AK-962-1410-HY-P; F-14910-C, F-14910-F, F-14910-J, F-14910-K]

Alaska Native Claims Selection; Notice for Publication

In accordance with Departmental regulation 43 CFR 2650.7(d), notice is hereby given that a decision approving lands for conveyance under the provisions of Sec. 14(a) of the Alaska Native Claims Settlement Act of December 18, 1971, 43 U.S.C. 1613(a), will be issued to NANA Regional Corporation, Inc., as Successor in Interest to Putoo Corporation, for 21,300.82 acres. The lands involved are within the following townships, located in the vicinity of Noorvik, Alaska:

Kateel River Meridian, Alaska

T. 15 N., R. 10 W.

T. 18 N., R. 11 W.

T. 15 N., R. 12 W.

T. 18 N., R. 13 W.

Notice of the decision will be published once a week, for four (4) consecutive weeks, in the Arctic Sounder. Copies of the decision may be obtained by contacting the Alaska State Office of the Bureau of Land Management, 222 West Seventh Avenue, #13, Anchorage, Alaska 99513-7599, (907) 271-5960.

Any party claiming a property interest which is adversely affected by the decision, an agency of the Federal government, or regional corporation, shall have until September 11, 2000 to file an appeal. However, parties receiving service by certified mail shall have 30 days from the date of receipt to file an appeal. Appeals must be filed in the Bureau of Land Management at the address identified above, where the requirements for filing an appeal may be obtained. Parties who do not file an appeal in accordance with the requirements of 43 CFR Part 4, Subpart E, shall be deemed to have waived their rights.

Barbara J. Opp,
Land Law Examiner, Branch of ANCSA Adjudication.

[FR Doc. 00-20229 Filed 8-9-00; 8:45 am]

BILLING CODE 4310-84-P